FEDERAL MARITIME COMMISSION

Sunshine Act; Notice of Meeting

Time and Date: July 14, 2009—10 a.m.

Place: 800 North Capitol Street, NW., First Floor Hearing Room, Washington, DC.

Status: A portion of the meeting will be in Open Session and the remainder of the meeting will be in Closed Session.

Matters To Be Considered:

Open Session

1. FMC Agreement No. 201202: Oakland MTO Agreement.

2. FMC Agreement No. 011275-027: Australia and New Zealand/United States Discussion Agreement.

3. FMC Agreement No. 011275-028: Australia and New Zealand/United States Discussion Agreement.

Closed Session

1. Section 15 Order on Competition, Rates and Service in the U.S.-Australia/New Zealand and Northbound and Southbound Trade.

2. FMC Agreement No. 011741-013: U.S. Pacific Coast-Oceania Agreement.

3. Order Initiating Proceeding—Admission to Practice Before the Commission.

4. Internal Administrative Practices and Personnel Matters.

Contact Person For More Information: Karen V. Gregory, Secretary. (202) 523-5725.

Karen V. Gregory,
Secretary.

[FR Doc. E9-16414 Filed 7-7-09; 4:15 pm]

BILLING CODE P